OFFICE OF PERSONNEL MANAGEMENT

Submission for Review: Information Collection 3206-NEW; Questionnaire for Non-Sensitive Positions, Standard Form 85 (SF 85)

AGENCY: U.S. Office of Personnel Management.

ACTION: 30-Day Notice and request for comments.

SUMMARY: Federal Investigative Services (FIS), U. S. Office of Personnel Management (OPM) offers the general public and other Federal agencies the opportunity to comment on an information collection request (ICR), Office of Management and Budget (OMB) Control No. 3206-NEW, for Questionnaire for Non-Sensitive Positions, Standard Form 85 (SF 85). As required by the Paperwork Reduction Act of 1995, (Pub. L. 104-13, 44 U.S.C. chapter 35) as amended by the Clinger-Cohen Act (Pub. L. 104-106), OPM is soliciting comments for this collection. The Office of Management and Budget is particularly interested in comments that:

1. Evaluate whether the proposed collection of information is necessary for the proper performance of the functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until October 30, 2013. This process is conducted in accordance with 5 CFR 1320.1.

ADDRESSES: Interested persons are invited to submit written comments on the proposed information collection to the Office of Information and Regulatory Affairs, Office of Management and Budget, 725 17th Street NW., Room 10235, Washington, DC 20503, Attention: Jasmeet K. Seehra, OMB Desk Officer or sent by email to oira_submission@omb.eop.gov or faxed to (202)395-6974; and Federal Investigative Services, U. S. Office of Personnel Management, 1900 E Street NW., Washington, DC 20415, Attention: Donna McLeod or sent by email to FISFormsComments@opm.gov.

FOR FURTHER INFORMATION CONTACT: A copy of this ICR, with applicable supporting documentation, may be obtained by contacting the Federal Investigative Services, U. S. Office of Personnel Management, 1900 E Street NW., Washington, DC 20415, Attention: Donna McLeod or sent by email to FISFormsComments@opm.gov.

SUPPLEMENTARY INFORMATION: This notice announces that OPM is submitting to OMB a request for review and clearance of the revised collection of information, Questionnaire for Non-Sensitive Positions, SF 85, which is housed in a system named e-QIP (Electronic Questionnaires for Investigative Processing) and is an information collection completed by applicants for, or incumbents of, Federal Government civilian or military positions, or positions in private entities performing work for the Federal Government under contract. The collection is used as the basis of information:

• By the Federal Government in conducting background investigations of persons under consideration for non-sensitive, low-risk positions as defined in Executive Order 10450 and 5 CFR part 731;

• by agencies in determining whether a person performing work for or on behalf of the Federal Government under a contract should be deemed eligible for logical or physical access or fit to perform the work anticipated, if the contract provides for such an adjudication.

The SF 85 is completed by civilian employees of the Federal Government, military personnel, and non-federal employees, including Federal contractors and individuals otherwise not directly employed by the Federal Government but who perform work for or on behalf of the Federal Government. It is estimated that 55,040 non-Federal individuals will complete the SF 85 annually for investigations conducted by OPM. The SF 85 takes approximately 30 minutes to complete. The estimated annual burden for this form when used in OPM investigations is 27,520 hours.

This ICR also requests categorizing the form as a common form. OPM will continue to estimate the burden based on all Federal agencies that submit the SF 85 to OPM for investigation. Once OMB approves the use of this common form, all Federal agencies using the form not in connection with an OPM investigation may request use of this common form without additional 60- or 30-day notice and comment requirements. At that point, each agency will account for its number of respondents and the burden associated with the agency's use.

The 60-day notice of the proposed information collection was published in the Federal Register on July 18, 2013 (Federal Register Notices/Volume 78, Number 138, page 42982-42983) as required by 5 CFR 1320, affording the public an opportunity to comment on the form. A commenter from OPM recommend changing information collected in Section 7, Citizenship, to mirror the collection found on the SF 86. This recommendation was not accepted at this time. OPM will need additional time to explore the feasibility of addressing this recommendation in a timely manner and comply with investigative coverage requirements.

U.S. Office of Personnel Management.
Elaine Kaplan,
Acting Director.

[FR Doc. 2013-23833 Filed 9-27-13; 8:45 am]

BILLING CODE 6325-53-P